FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The Federal Trade Commission and the Assistant Attorney General for the Antitrust Division of the Department of Justice made the grants. Neither agency intends to take any action with respect to these proposed acquisitions during the applicable waiting period.

Early Terminations Granted
[11/01/2021 12:00:00 a.m., 11/30/2021 12:00:00 a.m.]
11/05/2021
20211232 | S | The Golub Voting Trust Agreement dated November 24, 2008; Tops Markets Corporation; The Golub Voting Trust Agreement dated November 24, 2008.
20211233 | S | Tops Markets Corporation; The Golub Voting Trust Agreement dated November 24, 2008; Tops Markets Corporation.
11/09/2021
20211525 | S | ANI Pharmaceuticals, Inc.; Esjay LLC; ANI Pharmaceuticals, Inc.

FOR FURTHER INFORMATION CONTACT: Theresa Kingsberry (202-326-3100), Program Support Specialist, Federal Trade Commission Premerger Notification Office, Bureau of Competition, Room CC-5301, Washington, DC 20024.

By direction of the Commission.
April J. Tabor,
Secretary.

[FR Doc. 2021-27174 Filed 12-15-21; 8:45 am]

BILLING CODE 6750-01-P